DEPARTMENT OF TRANSPORTATION

Federal Aviation Administration

14 CFR Part 39

[Docket No. 2002-NM-353-AD; Amendment 39-13073; AD 2003-04-24]

RIN 2120-AA64

Airworthiness Directives; McDonnell Douglas Model 717-200 Airplanes

AGENCY: Federal Aviation Administration, DOT.

ACTION: Final rule; request for comments.

SUMMARY: This amendment adopts a new airworthiness directive (AD) that is applicable to certain McDonnell Douglas Model 717-200 airplanes. This action requires a one-time inspection for cracking of the support fitting assemblies and stop pads of the main spoiler actuators, and follow-on actions. This action is necessary to find and fix cracking of the support fitting assemblies of the main spoiler actuator, which could result in damage of adjacent structure such as the rear spar or upper skin panel, and consequent reduced structural integrity of the airplane. This action is intended to address the identified unsafe condition.

DATES: Effective March 17, 2003.

The incorporation by reference of certain publications listed in the regulations is approved by the Director of the Federal Register as of March 17, 2003.

Comments for inclusion in the Rules Docket must be received on or before April 29, 2003.

ADDRESSES: Submit comments in triplicate to the Federal Aviation Administration (FAA), Transport Airplane Directorate, ANM-114, Attention: Rules Docket No. 2002-NM-353-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-iarcomment@faa.gov. Comments sent via fax or the Internet must contain “Docket No. 2002-NM-353-AD” in the subject line and need not be submitted in triplicate. Comments sent via the Internet as attached electronic files must be formatted in Microsoft Word 97 for Windows or ASCII text.

The service information referenced in this AD may be obtained from Boeing Commercial Aircraft Group, Long Beach Division, 3855 Lakewood Boulevard, Long Beach, California 90846, Attention: Data and Service Management, Dept. C1-L5A (D800-0024). This information may be examined at the FAA, Transport Airplane Directorate, 1601 Lind Avenue, SW., Renton, Washington; at the FAA, Los Angeles Aircraft Certification Office, 3960 Paramount Boulevard, Lakewood, California; or at the Office of the Federal Register, 800 North Capitol Street, NW., suite 700, Washington, DC.

FOR FURTHER INFORMATION CONTACT: Maureen Moreland, Aerospace Engineer, Airframe Branch, ANM-120L, FAA, Los Angeles Aircraft Certification Office, 3960 Paramount Boulevard, Lakewood, California 90712-4137; telephone (562) 627-5238; fax (562) 627-5210.

SUPPLEMENTARY INFORMATION: The FAA has received reports indicating that cracking has been found on a support fitting assembly for the main spoiler actuators on several McDonnell Douglas Model 717-200 airplanes. On one airplane, a crack completely separated a forward attachment lug from the support fitting. This allowed the lug to move forward and contact and damage the rear spar of the wing, which resulted in cracking of the spar and fuel seepage. On another airplane, the support fitting cracked laterally across the center of the fitting. Investigation revealed that the stop pad had been broken off at the pad's aft attachment hole, and contact occurred between the spoiler actuator and fitting. While the root-cause of these cracks is unknown, one possibility is improper rigging of the spoiler hold-down actuator, which could cause additional loading and fatigue in the support fitting. Cracking of a support fitting assembly for a main spoiler actuator, if not corrected, could result in damage of adjacent structure such as the rear spar or upper skin panel, and consequent reduced structural integrity of the airplane.

Explanation of Relevant Service Information

The FAA has reviewed and approved Boeing Alert Service Bulletin 717-57A0013, dated December 20, 2002. That service bulletin describes procedures for a one-time visual inspection for cracking of the support fitting assemblies and stop pads of the main spoiler actuators. For support fitting assemblies on which no cracking is found, the service bulletin describes procedures for a follow-on test of the rigging of the spoiler hold-down actuators to ensure that the actuators are rigged correctly. For cracked support fitting assemblies or stop pads, the service bulletin specifies to contact Boeing for instructions for repair and additional inspections.

Explanation of the Requirements of the Rule

Since an unsafe condition has been identified that is likely to exist or develop on other airplanes of the same type design, this AD is being issued to find and fix cracking of the support fitting assemblies of the main spoiler actuator, which could result in damage of adjacent structure such as the rear spar or upper skin panel, and consequent reduced structural integrity of the airplane. This AD requires accomplishment of the actions specified in the service bulletin described previously, except as discussed under the heading “Differences Between This AD and the Service Bulletin.” This AD also requires that operators report results of inspection findings to the FAA and to Boeing.

Interim Action

This is considered to be interim action. The inspection reports that are required by this AD will enable the manufacturer to obtain better insight into the nature, cause, and extent of the cracking, and eventually to develop final action to address the unsafe condition. Once final action has been identified, the FAA may consider further rulemaking.

Clarification of Inspection Type

The service bulletin identifies the inspection for cracking or other discrepancy as a “visual” inspection. We have determined that the inspection described in the service bulletin constitutes a “detailed” inspection. Note 2 of this AD defines such an inspection.

Differences Between This AD and the Service Bulletin

Operators should note that, although the service bulletin specifies that the manufacturer may be contacted for disposition of cracking conditions, this AD would require the repair of those conditions to be accomplished per a method approved by the FAA, or per data meeting the type certification basis of the airplane approved by a Boeing Company Designated Engineering Representative who has been authorized by the FAA to make such findings.

Operators also should note that, if no cracking of any spoiler support fitting or stop pad is found, the service bulletin specifies to test the rigging of the spoiler hold-down actuators. However, the service bulletin does not specify any corrective action if a spoiler hold-down actuator is incorrectly rigged. If any spoiler hold-down actuator is not rigged correctly, this AD specifies to correct the rigging per McDonnell Douglas Model 717 Aircraft Maintenance Manual, Chapter 27-67-06, Revision 15, dated January 1, 2003.

Operators may note that certain portions of the service bulletin specify that, if no cracks are found, inspection findings must be submitted to Boeing. However, the Accomplishment Instructions of the service bulletin do not contain such an instruction, and this AD does not require operators to submit inspection findings if no cracking is found.

Operators also may note that note (e) in Figures 1 and 2 of the service bulletin refers to inspecting for cracking or “evidence of riding conditions on the support fitting.” We have confirmed with Boeing that the references to “riding conditions” were included inadvertently. It is only necessary to inspect the support fitting assembly and stop pads for cracks, not for evidence of riding conditions. Note 3 of this AD clarifies our intent.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2002-NM-353-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2003-04-24 McDonnell Douglas: Amendment 39-13073.

Docket 2002-NM-353-AD.

Applicability: Model 717-200 airplanes, fuselage numbers 5002 through 5106 inclusive, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To find and fix cracking of the support fitting assemblies of the main spoiler actuator, which could result in damage of adjacent structure such as the rear spar or upper skin panel, and consequent reduced structural integrity of the airplane, accomplish the following:

One-Time Inspection

(a) Within 550 flight hours after the effective date of this AD, perform a one-time detailed inspection for cracking of the support fitting assemblies and stop pads of the main spoiler actuators, per the Accomplishment Instructions of Boeing Alert Service Bulletin 717-57A0013, dated December 20, 2002.

Note 2: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Note 3: While note (e) in Figures 1 and 2 in Boeing Alert Service Bulletin 717-57A0013, dated December 20, 2002, refers to inspecting for cracking or “evidence of riding conditions on the support fitting,” this AD requires inspection of the support fitting assembly and stop pads for cracking.

No Cracking Found: Follow-On Test

(b) If no cracking is found during the inspection required by paragraph (a) of this AD, before further flight, perform a test of the rigging of the spoiler hold-down actuators to ensure that the actuators are rigged correctly, per the Accomplishment Instructions of Boeing Alert Service Bulletin 717-57A0013, dated December 20, 2002. If any spoiler hold-down actuator is not rigged correctly, before further flight, correct the rigging per McDonnell Douglas Model 717 Aircraft Maintenance Manual, Chapter 27-67-06, Revision 15, dated January 1, 2003.

Cracking Found: Corrective Actions and Reporting Requirement

(c) If any cracking is found during the inspection required by paragraph (a) of this AD, do paragraphs (c)(1) and (c)(2) of this AD.

(1) Before further flight, repair and perform follow-on inspections per a method approved by the Manager, Los Angeles Aircraft Certification Office (ACO), FAA; or per data meeting the type certification basis of the airplane approved by a Boeing Company Designated Engineering Representative who has been authorized by the Manager, Los Angeles ACO, to make such findings. For a repair method to be approved, the approval must specifically reference this AD.

(2) Within 5 days after performing the inspection required by paragraph (a) of this AD, or within 5 days after the effective date of this AD, whichever is later, submit a report of inspection findings to the Manager, Los Angeles ACO, FAA, 3960 Paramount Boulevard, Lakewood, California 90712-4137, fax (562) 627-5210; and to Boeing, at the address specified in Appendix A of Boeing Alert Service Bulletin 717-57A0013, dated December 20, 2002. The report must include the fuselage number, a description of the discrepancies found, the number of flight cycles and flight hours on the airplane, and the name and telephone number of a person to contact if the FAA or Boeing needs more information on the findings. The form in Appendix A of the service bulletin may be used for the report. Information collection requirements contained in this AD have been approved by the Office of Management and Budget (OMB) under the provisions of the Paperwork Reduction Act of 1980 (44 U.S.C. 3501 et seq.) and have been assigned OMB Control Number 2120-0056.

Alternative Methods of Compliance

(d) An alternative method of compliance (AMOC) or adjustment of the compliance time that provides an acceptable level of safety may be used if approved by the Manager, Los Angeles ACO. Operators shall submit their requests through an appropriate FAA Principal Maintenance Inspector, who may add comments and then send it to the Manager, Los Angeles ACO.

Note 4: Information concerning the existence of approved alternative methods of compliance with this AD, if any, may be obtained from the Los Angeles ACO.

Special Flight Permits

(e) Special flight permits may be issued in accordance with sections 21.197 and 21.199 of the Federal Aviation Regulations (14 CFR 21.197 and 21.199) to operate the airplane to a location where the requirements of this AD can be accomplished.

Incorporation by Reference

(f) Unless otherwise specified in this AD, the actions shall be done in accordance with Boeing Alert Service Bulletin 717-57A0013, dated December 20, 2002. This incorporation by reference was approved by the Director of the Federal Register in accordance with 5 U.S.C. 552(a) and 1 CFR part 51. Copies may be obtained from Boeing Commercial Aircraft Group, Long Beach Division, 3855 Lakewood Boulevard, Long Beach, California 90846, Attention: Data and Service Management, Dept. C1-L5A (D800-0024). Copies may be inspected at the FAA, Transport Airplane Directorate, 1601 Lind Avenue, SW., Renton, Washington; at the FAA, Los Angeles Aircraft Certification Office, 3960 Paramount Boulevard, Lakewood, California; or at the Office of the Federal Register, 800 North Capitol Street, NW., suite 700, Washington, DC.

Effective Date

(g) This amendment becomes effective on March 17, 2003.

Issued in Renton, Washington, on February 20, 2003.
Ali Bahrami,
Acting Manager, Transport Airplane Directorate, Aircraft Certification Service.

[FR Doc. 03-4487 Filed 2-27-03; 8:45 am]

BILLING CODE 4910-13-P